DEPARTMENT OF THE INTERIOR

Fish and Wildlife Service

Draft Environmental Assessment, Draft Habitat Conservation Plan, and Receipt of Application for Incidental Take Permits for Cedar City and the Paiute Tribe for the Cedar City Golf Course and Paiute Tribal Lands, Utah

AGENCY: Fish and Wildlife Service, Interior.

ACTION: Notice of availability and receipt of application.

SUMMARY: Cedar City and the Paiute Tribe of Utah (Applicants) have applied to the U.S. Fish and Wildlife Service (Service) for incidental take permits pursuant to section 10(a)(1)(B) of the Endangered Species Act (ESA) of 1973, as amended. The requested permits, which are for a period of 20 years, would authorize incidental take of the Utah prairie dog (UPD) (Cynomys parvidens), a species federally-listed as threatened. The proposed take would occur as a result of maintenance of the Cedar City Golf Course and Paiute Tribal recreational grounds in Cedar City, Utah.

We also announce the availability of a draft Environmental Assessment (EA) and a draft Habitat Conservation Plan (HCP) for public review and comment. The Service requests comments from the public on the permit application, EA, and HCP. The permit application includes the proposed HCP and associated draft Implementation Agreement. The HCP describes the proposed action and the measures the Applicants will undertake to minimize and mitigate to the maximum extent practicable the take of UDP. All comments on the EA, HCP, and permit application will become part of the administrative record and will be available to the public. A determination of whether jeopardy to the species will occur, a Finding of No Significant Impact, and/or issuance of the incidental take permits, will not be made before 60 days from the date of publication of this notice. This notice is provided pursuant to section 10(c) of the ESA and National Environmental Policy Act regulations (40 CFR 1506.6).

DATES: Written comments on the permit application, EA, and HCP must be received on or before July 14, 2006.

ADDRESSES: Comments regarding the permit application, EA, and HCP should be addressed to Henry Maddux, Field Supervisor, U.S. Fish and Wildlife Service, 2369 West Orton Circle #50, West Valley City, Utah 84119. Comments also may be submitted by facsimile to (801) 975-3331. Persons wishing to review the permit application, EA, or HCP may obtain a copy by writing to the above office. Documents will be available for public inspection by written request, or by appointment only, during business hours (8 a.m. to 4:30 p.m.) at the above address. The EA and HCP also will be posted on the Internet at http://mountainprairie.fws.gov/species/mammals/utprairiedog/.

FOR FURTHER INFORMATION CONTACT: Henry Maddux, Field Supervisor, at the above address or telephone (801) 975-3330.

SUPPLEMENTARY INFORMATION:

Background

Section 9 of the ESA and Federal regulations prohibit the “take” of a species listed as endangered or threatened. Take is defined under the ESA, in part, as to kill, harm, or harass a federally-listed species. However, the Service may issue permits to authorize “incidental take” of listed species under limited circumstances. Incidental take is defined under the ESA as take of a listed species that is incidental to, and not the purpose of, the carrying out of an otherwise lawful activity under limited circumstances. Regulations governing permits for threatened species are promulgated in 50 CFR 17.32.

The Applicants have submitted an application to the Service for permits to incidentally take UPDs, pursuant to section 10(a)(1)(B) of the ESA, in association with maintenance of the Golf Course and Tribal recreational lands. The permits would allow the Cedar City Golf Course and the Paiute Tribal Lands to be managed free of UPDs. Details of this alternative are found in the Cedar City Golf Course and Paiute Tribal Lands draft HCP. Proposed minimization and mitigation for the action are described in the HCP and include translocation of UPDs to restored Federal lands and the restoration and protection in perpetuity of 123 hectares (303 acres) of privately owned lands occupied by UPDs. The proposed permits would be in effect for 20 years. Authorized take would include harm, harassment, and direct mortality of UPDs. However, if the Service determines that the obligations of the ESA section 10(a)(1)(B) permits are not being met (e.g., unauthorized taking or permit violations by the cooperators is occurring), the permits may be revoked if remedial actions are not immediately implemented to alleviate such violations.

The HCP associated with the permits would be carried out in two phases. In the first phase, 123 hectares (303 acres) known as Wild Pea Hollow would be acquired, protected in perpetuity, and managed for UPDs. Upon protection of the property, the permits would authorize intensive live-trapping of prairie dogs for two consecutive seasons at the Cedar City Golf Course. These animals would be translocated to identified translocation sites on public lands.

The second phase of the HCP will be initiated with the enhancement of approximately 47 hectares (115 acres) at Wild Pea Hollow to increase potential habitat. Once the restoration has been completed, the Paiute Tribe may begin live-trapping UPD for two consecutive seasons. These animals also will be translocated to identified translocation sites on public lands.

On both the Cedar City Golf Course and the Paiute Tribal Lands, once intensive live-trapping has been undertaken for 2 consecutive years and the success criteria of the HCP have been met, the applicants may manage their lands free of UPD through the use of conibear traps.

Take of occupied UPD habitat will not exceed that identified in the HCP. Take of individual animals will depend on unpredictable factors such as weather and plague events but will depend on trapping success.

The Cedar City Golf Course and the Paiute Tribal Lands are located in the center of Cedar City, Utah, and are surrounded by development. Private lands surrounding these lands are covered by the Iron County HCP and will soon be developed. It is unlikely that the animals on the Cedar City Golf Course or the Paiute Tribal Lands contribute to long-term viability of the species due to this isolation.

A no-action alternative to the proposed action was considered. This alternative would result in a small number of UPD being live-trapped and translocated to restored Federal lands under the current Iron County HCP but would not address the continued safety concerns and damage to equipment. An additional alternative considered was to mitigate the loss of habitat and animals in the roughs of the Cedar City Golf Course. This alternative would be difficult to accomplish and would be unlikely to address safety concerns.

We will evaluate the application, associated documents, and comments submitted thereon to determine whether the application meets the requirement of National Environmental Policy Act regulations and section 10(a) of the ESA. If we determine that those requirements are met, we will issue permits to the Applicants for the incidental take of UPD. We will make our final permit decisions no sooner than 60 days from the date of this notice.

Dated: April 28, 2006.
James J. Slack,
Deputy Regional Director, Region 6.

[FR Doc. E6-7318 Filed 5-12-06; 8:45 am]

BILLING CODE 4310-55-P